ENVIRONMENTAL PROTECTION AGENCY

[FRL-7408-7]

Proposed Prospective Purchaser Agreement Under CERCLA for the Pruitt & Grace Superfund Site

AGENCY: Environmental Protection Agency (“EPA”).

ACTION: Notice; proposal of CERCLA Prospective Purchaser Agreement for the Pruitt & Grace Superfund site.

SUMMARY: EPA is proposing to execute a Prospective Purchaser Agreement (“PPA”) under authority of the Comprehensive Environmental Response, Compensation, and Liability Act of 1980 (“CERCLA”), 42 U.S.C. 9601 et seq., as amended, and under the inherent authority of the Attorney General of the United States to compromise and settle claims of the United States, for the transfer of title to property at the Pruitt & Grace Superfund site to Patrick Electric Company, Inc., and Mr. Robert Patrick II. The company and Mr. Patrick are both settling respondents under the PPA. In return for a covenant not to sue and contribution protection from EPA, the settling respondents will pay $2,000 to EPA, and will redevelop and operate the site. Settling respondents further agree to: Provide EPA and the Ohio Environmental Protection Agency (“OEPA”) with continued access to the site if necessary; exercise due care with respect to any existing contamination; cooperate with EPA and OEPA; and comply with all environmental laws and regulations. Patrick Electric further covenants not to sue the United States.

The proposed PPA has been executed by the settling respondents, and has been submitted to the Attorney General for approval. EPA today is proposing to execute the PPA because it achieves a benefit for the community where the site is located by encouraging the reuse or redevelopment of property at which fear of Superfund liability may have been a barrier, thereby fulfilling EPA's Brownfields policies and goals. The site is not on the National Priorities List. No further response activities by EPA are anticipated at the site at this time.

DATES: Comments on this proposed PPA must be received by December 16, 2002.

ADDRESSES: A copy of the proposed PPA is available for review at EPA, Region 5, 77 West Jackson Boulevard, Chicago, Illinois 60604. Please contact Kevin C. Chow at (312) 353-6181, prior to visiting the Region 5 office. Comments on the proposed PPA should be addressed to Kevin C. Chow, Office of Regional Counsel (C-14J), EPA, Region 5, 77 West Jackson Boulevard, Chicago, Illinois 60604.

FOR FURTHER INFORMATION CONTACT: Kevin C. Chow, Office of Regional Counsel, at (312) 353-6181.

SUPPLEMENTARY INFORMATION: The site is located at 1228 West 15th Street, Lorain, Lorain County, Ohio. It is approximately one acre in size and is bounded to the north by railroad tracks, to the south by West 15th Street and private residences, and to the east by Oberlin Avenue and small businesses. The facility was operated by Pruitt & Grace Prime Line, Inc. and Pruitt & Grace Development Corporation (collectively, “Pruitt & Grace”). Pruitt & Grace ceased operating in the mid-1980s. As a result, Pruitt & Grace left behind approximately 325 55-gallon drums and a number of 5-gallon cans. Access to the site was unrestricted. The drums were left outdoors and were rusty, bulging, leaking, open, or in various stages of deterioration, which prompted neighborhood complaints about odor and other problems. The drums contained abandoned or waste paints, lacquers, solvents (including tetrachloroethylene), and other substances. Several drums were labeled inflammable. EPA sampled open containers and found organic vapors with concentrations as high as 200 parts per million (“ppm”). Based on these results, EPA performed field hazard characterization tests for ignitability on several drums and confirmed that ignitable and/or inflammable materials existed at the site.

EPA determined that, among other things, the site posed a threat of fire or explosion and that an imminent and substantial endangerment to human health or the environment existed. EPA took an emergency removal action as authorized by section 104 of CERCLA, 42 U.S.C. 9604, to mitigate the threat of fire or explosion. Actions taken by EPA included: Installation of a fence along the northern boundary of the site; inventorying and sampling of drum contents; pumping and off-site disposal of liquid fractions from all drums; consolidation of partially full drums; over-packing of full drums; crushing and off-site disposal of empty drums; and off-site disposal of all hazardous wastes, including one 55-gallon drum of waste oil. EPA completed the clean-up on January 17, 1992. Total costs incurred by EPA amounted to at least $144,358.73.

Under the proposed PPA, the settling respondents will redevelop the site and move their electrical services contracting business there, thus returning an abandoned Superfund site to productive use and preserving or creating jobs. The settling respondents will also pay $2,000 to EPA; provide future access to the site if necessary to EPA and the Ohio Environmental Protection Agency (“OEPA”); exercise due care with respect to any existing contamination; cooperate with EPA and OEPA; and comply with all environmental laws and regulations. They further covenant not to sue the United States. In return, EPA covenants not to sue and provides contribution protection to the settling respondents, subject to certain reservations of rights. A 30-day period, beginning on the date of publication of this notice, is open for comments on the proposed Prospective Purchaser Agreement.

Dated: October 15, 2002.
William E. Muno,
Director, Superfund Division, Region 5.

[FR Doc. 02-29058 Filed 11-14-02; 8:45 am]

BILLING CODE 6560-50-P